DEPARTMENT OF DEFENSE

Department of the Army, Corps of Engineers

Revision to the Notice for the Great Lakes and Mississippi River Interbasin Study (GLMRIS) Regarding Public Conference Calls Scheduled for January 10 and February 8, 2012

AGENCY: Department of the Army, U.S. Army Corps of Engineers, DOD (USACE).

ACTION: Notice.

SUMMARY: In a December 21, 2011 notice, Federal Register Notice (76 FR 79167), USACE announced the release of the “Inventory of Available Controls for Aquatic Nuisance Species of Concern—Chicago Area Waterway System” (ANS Control Paper), a public comment period and two (2) public conference calls. USACE is hosting the calls to provide the public with an opportunity to ask questions regarding the ANS Control Paper. The December 21, 2011 notice did not include a security code for these conference calls. This notice includes the phone number, and access and security codes. Please refer to December 21, 2011 notice for information regarding the public comment period.

DATES: On Tuesday, January 10, 2012 from 2 p.m.-4 p.m. (CST) and Wednesday, February 8, 2012 from 10 a.m.-12 p.m. (CST), USACE will host two (2) public conference calls. Please refer to the “Public Conference Calls—ANS Control Paper” section below for call information.

FOR FURTHER INFORMATION CONTACT: For further information and/or questions about GLMRIS, please contact USACE, Chicago District, Project Manager, Mr. David Wethington, by mail: USACE, Chicago District, 111 N. Canal, Suite 600, Chicago, IL 60606, or by email: david.m.wethington@usace.army.mil.

For media inquiries, please contact USACE, Chicago District, Public Affairs Officer, Ms. Lynne Whelan, by mail: USACE, Chicago District, 111 N. Canal, Suite 600, Chicago, IL 60606, by phone: (312) 846-5330 or by email: lynne.e.whelan@usace.army.mil.

SUPPLEMENTARY INFORMATION:

1. Background. In a December 8, 2010 notice of intent, Federal Register Notice (75 FR 76447), USACE announced it will prepare a feasibility report and an environmental impact statement (EIS) for GLMRIS. GLMRIS is a feasibility study of the range of options and technologies that could be applied to prevent ANS transfer between the Great Lakes and Mississippi River basins through aquatic pathways. USACE is conducting GLMRIS in consultation with other federal agencies, Native American tribes, state agencies, local governments and non-governmental organizations. The ANS Control Paper is an interim product of GLMRIS. For additional information regarding GLMRIS, please refer to the project Web site http://glmris.anl.gov. USACE will develop screening criteria consistent with study objectives and refine the list of ANS Controls to determine which warrant further consideration. USACE will formulate plans comprised of one or more of the screened ANS Controls in consideration of four criteria: Completeness, effectiveness, efficiency and acceptability. USACE will then evaluate and compare the effects of the alternative plans.

USACE is conducting GLMRIS in accordance with the National Environmental Policy Act (NEPA) and with the Economic and Environmental Principles and Guidelines for Water and Related Land Resource Implementation Studies, Water Resources Council, March 10, 1983.

2. Public Conference Calls—ANS Control Paper. USACE will host a conference call on Tuesday, January 10, 2012 from 2 p.m.-4 p.m. (CST) and Wednesday, February 8, 2012 from 10 a.m.-12 p.m. (CST). The conference calls are intended to provide the public with an opportunity to ask questions regarding the ANS Control Paper. Call-in information for both calls is: USA Toll-Free: (877) 336-1839, Access Code: 8506361, Security Code: 0000.

3. Authority. This action is being undertaken pursuant to the Water Resources and Development Act of 2007, Section 3061, Public Law 110-114, 121 STAT. 1121, and NEPA of 1969, 42 U.S.C. 4321, et seq., as amended.

Dated: December 27, 2011.
David F. Bucaro,
Analysis Section, USACE, Chicago District.

[FR Doc. 2011-33656 Filed 12-30-11; 8:45 am]

BILLING CODE 3720-58-P